DEPARTMENT OF JUSTICE

Office of Justice Programs

[OMB Number 1121-0197]

Agency Information Collection Activities: Proposed Collection; Comments Requested

ACTION: 60-Day Notice of Information Collection Under Review—Extension of currently approved collection; Bureau of Justice Assistance Application Form: State Criminal Alien Assistance Program.

The Department of Justice (DOJ), Office of Justice Programs, Bureau of Justice Assistance, will be submitting the following information collection request for review and clearance in accordance with the Paperwork Reduction Act of 1995. This proposed information collection is published to obtain comments from the public and affected agencies. Comments are encouraged and will be accepted for “sixty days” until June 10, 2011.

If you have additional comments, suggestions, or need a copy of the proposed information collection instrument with instructions or additional information, please contact M. Berry at 202-353-8643 or 1-866-859-2687, Bureau of Justice Assistance, Office of Justice Programs, U.S. Department of Justice, 810 7th Street, NW., Washington, DC 20531.

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call M. Berry at 202-353-8463, or the DOJ Desk Officer at 202-395-3176.

Written comments and suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of information collection: Extension of currently approved collection.

(2) The title of the form/collection: State Criminal Alien Assistance Program.

(3) The agency form number, if any, and the applicable component of the Department sponsoring the collection: Bureau of Justice Assistance, Office of Justice Programs, United States Department of Justice.

(4) Affected public who will be asked or required to respond, as well as a brief abstract. Primary: States and local units of general government including the 50 state governments, the District of Columbia, Guam, Puerto Rico, the U.S. Virgin Islands, and the more than 3,000 counties and cities with correctional facilities.

Other: None.

Abstract: In response to the Violent Crime Control and Law Enforcement Act of 1994 Section 130002(b) as amended in 1996, BJA administers the State Criminal Alien Assistance Program (SCAAP) with the Bureau of Immigration and Customs Enforcement (ICE), and the Department of Homeland Security (DHS). SCAAP provides Federal payments to States and localities that incurred correctional officer salary costs for incarcerating undocumented criminal aliens with at least one felony or two misdemeanor convictions for violations of state or local law, and who are incarcerated for at least 4 consecutive days during the designated reporting period and for the following correctional purposes;

Salaries for corrections officers;

Overtime costs;

Performance based bonuses;

Corrections work force recruitment and retention;

Construction of corrections facilities;

Training/education for offenders;

Training for corrections officers related to offender population management;

Consultants involved with offender population;

Medical and mental health services;

Vehicle rental/purchase for transport of offenders;

Prison Industries;

Pre-release/reentry programs;

Technology involving offender management/inter agency information sharing;

Disaster preparedness continuity of operations for corrections facilities.

(5) An estimate of the total number of respondents and the amount of time estimated for an average respondent to respond/reply: It is estimated that no more than 865 respondents will apply. Each application takes approximately 90 minutes to complete and is submitted once per year (annually).

(6) An estimate of the total public burden (in hours) associated with the collection: The total hour burden to complete the applications is 1,297 hours. 865 × 90 minutes = 77,850/60 minutes per hour = 1,297 burden hours

If additional information is required contact: Lynn Murray, Department Clearance Officer, U.S. Department of Justice, Policy and Planning Staff, Justice Management Division, Two Constitution Square, 145 N Street, NE., Room 2E-808, Washington, DC 20530.

Lynn Murray,
Department Clearance Officer, PRA, United States Department of Justice.

[FR Doc. 2011-8487 Filed 4-8-11; 8:45 am]

BILLING CODE 4410-18-P